DEPARTMENT OF COMMERCE

National Institute of Standards and Technology

Proposed Information Collection; Comment Request; NIST MEP Advanced Manufacturing Jobs and Innovation Accelerator Challenge (AMJIAC) Client Impact Survey

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 6, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument and instructions should be directed to: Dede McMahon, NIST MEP, 100 Bureau Drive, Stop 4800, Gaithersburg, Maryland 20899-4800; (301-975-8328); deirdre.mcmahon@nist.gov.

SUPPLEMENTARY INFORMATION:

I. Abstract

This is a request for a new information collection.

The purpose of the Advanced Manufacturing Jobs and Innovation Accelerator Challenge (AMJIAC) is to provide strategic, catalytic funding for regional partnerships that have the potential to accelerate innovation and strengthen capacity in advanced manufacturing. The objectives of the challenge are to support job creation, encourage economic development, and enhance the competitiveness of U.S. manufacturers in regions across the country. The AMJIAC is a partnership among the U.S. Department of Commerce's Economic Development Administration and the National Institute of Standards and Technology, the U.S. Department of Energy, the U.S. Department of Labor's Employment and Training Administration, the U.S. Small Business Administration, and the National Science Foundation.

Ten Award Recipients were selected though a competitive multi-agency grant process announced in May 2012 to support initiatives that strengthen advanced manufacturing at the local and/or regional level. The funds help the ten partnerships support local and/or regional efforts to spur job creation through a variety of projects, including initiatives that connect innovative small suppliers with large companies, link research with start-up companies that can commercialize new ideas, and train workers with skills that firms need to capitalize on business opportunities.

The data collected from the companies served by the ten AMJIAC Award Recipients will provide all of the agencies with information about the outcomes and impacts of the AMJIAC program on U.S. manufacturers obtained from the companies. This information will include quantified impacts on their sales, cost savings, employment growth, and additional investment. These figures will be used to determine the effectiveness of the project work and to gauge the overall success of the AMJIAC project. The purpose of the survey is to collect data from the companies to display the effectiveness of the AMJIAC project.

II. Method of Collection

Information will be collected electronically.

III. Data

OMB Control Number: None.

Form Number: None.

Type of Review: Regular submission (new information collection).

Affected Public: Business or other for-profit organizations; Not for profit institutions.

Estimated Number of Respondents: 200.

Estimated Time per Response: 15 minutes.

Estimated Total Annual Burden Hours: 50.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 3, 2013.
Gwellnar Banks,
Management Analyst, Office of the Chief Information Officer.

[FR Doc. 2013-13494 Filed 6-6-13; 8:45 am]

BILLING CODE 3510-13-P